DEPARTMENT OF AGRICULTURE

Office of Advocacy and Outreach

Notice of Request for Approval of an Information Collection

AGENCY: Office of Advocacy and Outreach, USDA.

ACTION: Notice and request for comments; correction.

SUMMARY: This notice announces the intent, in accordance with the Paperwork Reduction Act of 1995, of the Office of Advocacy and Outreach (OAO) to request an extension/revision of a currently approved information collection to the Minority Farm Register. The Minority Farm Register is a voluntary register of minority farm and ranch operators, landowners, tenants, and others with an interest in farming or agriculture. The OAO uses the collected information to better inform minority farmers about U.S. Department of Agriculture (USDA) programs and services.

DATES: We will consider comments received by October 17, 2016, at 5:00 p.m. EST.

ADDRESSES: We invite you to submit comments on this notice. In your comments, include date, volume, and page number of this issue of the Federal Register. You may submit comments by any of the following methods: (1) Federal eRulemaking Portal: Go to http://regulations.gov and follow the online instructions for submitting comments; (2) Mail: U.S. Department of Agriculture, Office of Advocacy and Outreach, Attn: Kenya Nicholas, Program Director, Whitten Building Room 520-A, Mail Stop 0601, 1400 Independence Avenue SW., Washington, DC 20250; and (3) Fax: (202) 720-7704.

How to File a Complaint of Discrimination: To file a complaint of discrimination, complete the USDA Program Discrimination Complaint Form, which may be accessed online at: http://www.ocio.usda.gov/sites/default/files/docs/2012/Complain_combined_6_8_12.pdf, or write a letter signed by you or your authorized representative.

Send your completed complaint form or letter to USDA by mail, fax, or email:

Mail: U.S. Department of Agriculture Director, Office of Adjudication 1400 Independence Avenue SW., Washington, DC 20250-9410.

Fax: (202) 690-7442.

Email: program.intake@usda.gov.

FOR FURTHER INFORMATION CONTACT:

Agency Contact: U.S. Department of Agriculture, Office of Advocacy and Outreach, Attention: Kenya Nicholas, Program Director, Whitten Building Room 520-A, Mail Stop 0601, 1400 Independence Avenue SW., Washington, DC 20250, Phone: (202) 720-6350, Fax: (202) 720-7704, Email: kenya.nicholas@osec.usda.gov.

Persons with Disabilities: Persons who require alternative means for communication (Braille, large print, audiotape, etc.), should contact USDA's TARGET Center at (202) 720-2600 (voice and TDD).

SUPPLEMENTARY INFORMATION: Title: USDA Minority Farm Register.

Correction: In the Federal Register of August 16, 2016, FR Doc. 2016-19532, on page 54551, make the following correction to the OMB Number:

The second column, titled “SUPPLEMENTARY INFORMATION:”, should read:

Office of Management and Budget (OMB) Number: 0508-0005.

Expiration Date: October 31, 2016.

Signed August 18, 2016.
Christian Obineme,
Associate Director, Office of Advocacy and Outreach.

[FR Doc. 2016-20390 Filed 8-24-16; 8:45 am]

BILLING CODE P